COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add products and services to the Procurement List that will be furnished by nonprofit agencies employing persons who are blind or have other severe disabilities, and deletes products previously furnished by such agency.

Comments Must Be Received on or Before: 3/20/2016.

ADDRESSES: Committee for Purchase From People Who Are Blind or Severely Disabled, 1401 S. Clark Street, Suite 715, Arlington, Virginia, 22202-4149.

For Further Information or To Submit Comments Contact: Barry S. Lineback, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the products and services listed below from nonprofit agencies employing persons who are blind or have other severe disabilities.

The following products and services are proposed for addition to the Procurement List for production by the nonprofit agencies listed:

Products

NSN(s)—Product Name(s): MR 1188—Towel Set, Christmas, Includes Shipper 11188

Mandatory Source(s) of Supply: Alphapointe, Kansas City, MO

Mandatory for: The requirements of military commissaries and exchanges in accordance with the Code of Federal Regulations, Chapter 51, 51-6.4.

Contracting Activity: Defense Commissary Agency

Distribution: C-List

NSN(s)—Product Name(s):

8340-00-NIB-0019—Tarp, Standard, Polyethylene, 20′ × 25′, Grommets

8340-00-NIB-0020—Tarp, Heavy Duty, Polyethylene, 20′ × 25′, Grommets

Mandatory Source(s) of Supply: Association for Vision Rehabilitation and Employment, Inc., Binghamton, NY

Mandatory for: Total Government Requirement

Contracting Activity: Defense Logistics Agency Troop Support

Distribution: B-List

Services

Service Type: Grounds Maintenance Service

Mandatory for: FAA, Atlanta Air Route Surveillance Radar, 1890 Roswell Street SE, Smyrna, GA

Service Type: Grounds Maintenance and Janitorial Service

Mandatory for: FAA, Fulton County Air Traffic Control Tower, 3979 Aviation Circle NW, Atlanta, GA

Mandatory Source(s) of Supply: New Ventures Enterprises, Inc., LaGrange, GA

Contracting Activity: Dept of Trans/Federal Aviation Administration, College Park, GA

Deletions

The following products are proposed for deletion from the Procurement List:

Products

NSN(s)—Product Name(s): 7530-00-160-8475—Index Sheet Set, Alphabetical, 8½″ × 11″, Buff 7530-00-160-8477—Index Sheet Set, Alphabetical, 11″ × 8½″, Buff

Mandatory Source(s) of Supply: Life'sWork of Western PA, Pittsburgh, PA

Contracting Activity: General Services Administration, New York, NY

Barry S. Lineback,
Director, Business Operations.

[FR Doc. 2016-03472 Filed 2-18-16; 8:45 am]

BILLING CODE 6353-01-P